DEPARTMENT OF COMMERCE

National Oceanic and Atmospheric Administration

RIN 0648-XG377

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a four-day meeting to consider actions affecting the Gulf of Mexico fisheries in the exclusive economic zone (EEZ).

DATES: The meeting will be held on Monday, August 20 through Thursday, August 23, 2018.

ADDRESSES: The meeting will take place at the Omni Corpus Christi hotel located at 900 N. Shoreline Boulevard, Corpus Christi, TX 78401; telephone: (361) 887-1600.

Council address: Gulf of Mexico Fishery Management Council, 4107 W. Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION:

Agenda

Monday, August 20, 2018; 8:30 a.m.-5:15 p.m.

The Coral Committee will receive an update on the Flower Garden Banks National Marine Sanctuary Expansion; discuss Final Action: Abbreviated Framework Action—Clarification of Fishing in Habitat Area Particular Concerns (HAPCs); and, receive an update on the Coral Reef Conservation Program Grant. The Sustainable Fisheries Committee will review a Draft Abbreviated Framework Action: Conversion of Historical Captain Endorsements to Federal For-Hire Permits; and, review of Senate Bill S. 3138—A Bill to Establish a Regulatory System for Marine Aquaculture in the United States Exclusive Economic Zone (EEZ).

After lunch, the Mackerel Committee will convene to discuss the Coastal Migratory Pelagics (CMP) Landings Update; receive an update on Cobia catch per unit effort (CPUE) Indices and Scientific and Statistic Committee (SSC) recommendations; and, review Options: CMP Framework Amendment 7—Modifications to Gulf Cobia Size and Possession Limits. The Gulf SEDAR Committee will receive an overview of the revised SEDAR process; and review and finalize the 2020 and 2021 Gulf SEDAR Schedule. The Shrimp Committee will receive an update on Council request regarding shrimp effort threshold reduction in the area monitored for juvenile red snapper bycatch and SSC recommendations. The Spiny Lobster Committee will review and discuss the Spiny Lobster Landings and review Final Action: Spiny Lobster Amendment 13—Modifications to the Spiny Lobster Gear Requirements and Cooperative Management Procedures.

Tuesday, August 21, 2018; 8:30 a.m.-5:30 p.m.

The Reef Fish Management Committee will convene and review the Reef Fish Landings; review Final Action: Framework Action to Modify Red Snapper Acceptable Catch Limits (ACL) and Acceptable Catch Targets (ACT) and Gulf Hogfish ACLs. The committee will also review Draft Amendment 36B—Modifications to Commercial Individual Fishing Quota (IFQ) Programs and Final Action: Modification to the Recreational Red Snapper ACT Buffers. After lunch, the committee will discuss the Gulf of Mexico Allocation Review Triggers; compare the Council's Allocation Policy with National Marine Fisheries Service (NMFS) Allocation Review Policy; review Scoping Document: Reallocation of the Red Snapper ACL and the revised Draft Amendment 50: State Management Program for Recreational Red Snapper and Individual State Amendments.

Wednesday, August 22, 2018; 8:30 a.m.-5 p.m.

The Reef Fish Committee will receive a presentation on the Great Red Snapper Count; and review the Scientific and Statistical Committee (SSC) Summary Report. The Data Committee will review the Gulf of Mexico 2017 Headboat Summary Report; and receive an update on Southeast For-Hire Electronic Reporting Programs (SEFHIER) Implementation Plan.

Mid-morning (approximately 10:45 a.m.), the Full Council will convene with a Call to Order, Announcements, and Introductions. The Council will hold the induction of new Council Members, followed by the Adoption of Agenda and Approval of Minutes. The Council will receive presentations on Highly Migratory Species (HMS) Amendment 11 regarding Shortfin Mako Sharks; and from Texas Law Enforcement. The Council will receive open public testimony from 1:30 p.m. until 5 p.m. on the following items: Final Action: Abbreviated Framework Action—Clarification of Fishing in HAPCs; Final Action: Framework Action to Modify Red Snapper ACLs and ACTs, and Gulf Hogfish ACLs; Final Action: Modification to the Recreational Red Snapper Annual Catch Target Buffers; Final Action: Spiny Lobster Amendment 13—Modifications to the Spiny Lobster Gear Requirements and Cooperative Management Procedures; and, on any other fishery issues or concerns. Anyone wishing to speak during public comment should sign in at the registration station located at the entrance to the meeting room.

Thursday, August 23, 2018; 8:30 a.m.-3:30 p.m.

The Council will receive reports from the following committees: Coral, Mackerel, Spiny Lobster, Sustainable Fisheries, Gulf SEDAR, Data Collection, Shrimp, and Reef Fish Management Committees. After lunch, the Council will receive updates from the following supporting agencies: South Atlantic Fishery Management Council; NOAA Office of Law Enforcement (OLE), Gulf States Marine Fisheries Commission; U.S. Coast Guard; U.S. Fish and Wildlife Service; and, the Department of State.

The Council will discuss any Other Business items. Lastly, the Council will hold an election for Chair and Vice-Chair.

—Meeting Adjourns

The meeting will be broadcast via webinar. You may register for the webinar by visiting www.gulfcouncil.org and clicking on the Council meeting on the calendar. https://attendee.gotowebinar.com/register/3383291116212545537-. The timing and order in which agenda items are addressed may change as required to effectively address the issue, and the latest version along with other meeting materials will be posted on www.gulfcouncil.org as they become available.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Kathy Pereira (see ADDRESSES) at least 5 days prior to the meeting date.

Dated: July 26, 2018.
Tracey L. Thompson,
Acting Deputy Director, Office of Sustainable Fisheries, National Marine Fisheries Service.

[FR Doc. 2018-16311 Filed 7-30-18; 8:45 am]

BILLING CODE 3510-22-P